Proclamation 8807 of May 1, 2012

National Building Safety Month, 2012

By the President of the United States of America

A Proclamation

In neighborhoods and workplaces across America, professionals throughout government and industry work to implement building safety solutions that strengthen resilience and meet community needs. By designing and implementing state-of-the-art building safety, energy efficiency, and fire prevention codes and standards, they help save lives and prevent disruption in the wake of disaster. Resilient infrastructure is essential to an America built to last, and during National Building Safety Month, we recommit to strengthening our Nation’s ability to withstand the threats and hazards we face.

My Administration is committed to advancing that mission. With leadership from the Federal Emergency Management Agency, we continue to develop robust public-private partnerships that help communities prepare for, withstand, and recover from disasters. We are drawing upon cutting edge science and technology to establish stronger codes and standards for disaster resilience. And moving forward, we must promote research and development that will drive innovation in construction and retrofitting techniques. I encourage all Americans to visit www.Ready.gov to learn more about preparedness and find out how to get involved.

Whether protecting our communities from fires, floods, earthquakes, severe storms, or other disasters, building safety professionals play a critical role in making America safe, strong, and sustainable. This month, we celebrate their work, and we rededicate ourselves to ensuring our Nation remains ready and resilient.

NOW, THEREFORE, I, BARACK OBAMA, President of the United States of America, by virtue of the authority vested in me by the Constitution and the laws of the United States, do hereby proclaim May 2012 as National Building Safety Month. I encourage citizens, government agencies, private businesses, nonprofit organizations, and other interested groups to join in activities that will increase awareness of building safety, and I further urge Americans to learn more about how they can contribute to building safety at home and in their communities.

IN WITNESS WHEREOF, I have hereunto set my hand this first day of May, in the year of our Lord two thousand twelve, and of the Independence of the United States of America the two hundred and thirty-sixth.

[FR Doc. 2012-11013

Filed 5-3-12; 2:00 pm]

Billing code 3295-F2-P